DEPARTMENT OF LABOR

Comment Request for Information Collection for the Unemployment Insurance (UI) Facilitation of Claimant Reemployment Employment and Training Administration 9047 Report, Extension Without Revision

AGENCY: Employment and Training Administration (ETA).

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that the requested data can be provided in the desired format, reporting burden (time and financial resources) is minimized, collection instruments are clearly understood, and the impact of collection requirements on respondents can be properly assessed. Currently, the Employment and Training Administration is soliciting comments concerning the collection of data about the proposed extension of the UI Facilitation of Claimant Reemployment (current expiration date is July 31, 2011).

A copy of the proposed information collection request (ICR) can be obtained by contacting the office listed below in the addressee section of this notice.

DATES: Written comments must be submitted to the office listed in the addressee's section below on or before April 18, 2011.

ADDRESSES: Submit comments to Andrew W. Spisak, Office of Workforce Security, Employment and Training Administration, U. S. Department of Labor, Room S-4519, 200 Constitution Avenue, NW., Washington, DC 20210; telephone: 202-693-3196 (this is not a toll-free number); fax: 202-693-3975; e-mail: spisak.andrew@dol.gov.

SUPPLEMENTARY INFORMATION:

I. Background

Required by Congress under the Government Performance and Results Act of 1993 (GPRA), the Department's Strategic Plan is an integral part of the budget process. Among the purposes of the GPRA are to improve Federal program effectiveness and public accountability by focusing on program results, service quality, and customer satisfaction.

Outcome Goal 1.3 in the Department's fiscal year (FY) 2011—2016 Strategic Plan—Help workers who are in low-wage jobs or out of the labor market find a path into middle-class jobs—focuses on improving the operational performance and effectiveness of the federal/state UI program. This goal is supported in part by the performance measure:

Percent of UI claimants reemployed by the end of the first quarter after the quarter in which they received their first payment.

ETA collects the data to measure the facilitation of reemployment of UI benefit recipients through the ETA 9047 report. OMB approved the Department's request to begin collecting UI reemployment data through the ETA 9047 report on July 26, 2005. This data collection was renewed in 2008 through July 31, 2011.

ETA has also included UI reemployment as a performance measure for UI Performs, the Department of Labor's performance management system. Per UI Program Letter (UIPL) No. 17-08 (May 14, 2008), Acceptable Levels of Performance (ALP)—the minimum performance criteria for UI Performs Core Measures—are set annually for each state. The ALPs take into account the state's total unemployment rate and the percentage of UI claimants who are exempt from active work search or Employment Service registration requirements because they are job attached. Analyses of the data indicate that UI reemployment is strongly related to these two factors.

Data Collection

Each calendar quarter, states report on the ETA 9047 report separate counts for individuals receiving their first UI payments who are exempt from work search/employment service registration (“exempt”), in most cases because they are job-attached with definite recall dates, and those who must conduct work search or register with the employment service (“nonexempt”). States also report on the ETA 9047 report the number of those first payment recipients for whom intrastate or out-of-state employers reported wages in the subsequent quarter. States obtain these counts by running computer crossmatches of the Social Security Numbers (SSNs) of the claimants who received a first UI payment with the UI wage records for the subsequent calendar quarter. ETA issued instructions on obtaining out-of-state reemployment data through matching the SSNs of UI first payment recipients with UI wage records in the National Directory of New Hires in UIPL No. 1-06, Change 1 (August 2, 2006).

UI Reemployment GPRA and UI Performs Measures

The UI reemployment GPRA and UI Performs measures are defined as the percentage of all UI claimants receiving a first payment in a calendar quarter who were paid wages in the following calendar quarter that appear in UI wage records.

ETA believes that this measure encourages the agencies that administer UI-which share responsibility with all Workforce Investment partners in facilitating the reemployment of UI beneficiaries—to be innovative in the steps they take to facilitate these individuals' reemployment.

The following table summarizes GPRA targets and performance for the UI reemployment measure.

GPRA Targets and Performance
Goal and indicator | FY 2010 target | FY 2010 actual | FY 2011 target | FY 2012 target
Facilitate Reemployment: | 58.6% | 53.1%* | 54.4% | 56.40%
Percent of UI claimants who were reemployed by the end of the first quarter after the quarter in which they received their first payment
* Based on UI reemployment for the period July 2009 to June 2010, which is the most recent data available.

ETA's analyses of the UI reemployment data show that state performance in reemployment of UI benefit recipients is influenced by forces outside the control of the agency administering the state UI law, most notably by the economic conditions in the state, as measured by the total unemployment rate, and the percent of UI benefit recipients that are on temporary layoff, as measured by the percent of claimants who are not required to search for work or register with the state employment service. State ALPs for the UI Performs Core Measure reflect state-specific data for these two factors. State ALPs and performance for the performance period January to December 2009 are available at http://www.oui.doleta.gov/unemploy/pdf/alp.pdf.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions

Type of Review: Extension without change.

Title: Unemployment Insurance Facilitation of Claimant Reemployment.

OMB Number: 1205-0452.

Affected Public: State Workforce Agencies (SWAs).

Form: ETA 9047 Reemployment of UI Benefit Recipients.

Total Annual Respondents: 53 SWAs.

Annual Frequency: Quarterly.

Total Annual Responses: 212 per year (53 SWAs × 4 quarterly reports per year).

Average Time per Response: 10 hours.

Estimated Total Annual Burden Hours: 2,120 hours.

Total Annual Burden Cost for Respondents: $86,517 (approximately $1,633 per SWA). This is an established data collection for which no changes are proposed; there are no startup costs.

Comments submitted in response to this request will be summarized and/or included in the request for Office of Management and Budget approval of the information collection request; they will also become a matter of public record.

Dated: February 10, 2011.
Jane Oates,
Assistant Secretary, Employment and Training Administration.

[FR Doc. 2011-3469 Filed 2-15-11; 8:45 am]

BILLING CODE 4510-FT-P